NATIONAL FOUNDATION ON THE ARTS AND THE HUMANITIES

Institute of Museum and Library Services

Submission for OMB Review, Comment Request, Proposed Collection Requests: Museum Capacity-Building Programs Assessment Project

AGENCY: Institute of Museum and Library Services, National Foundation on the Arts and the Humanities.

ACTION: Submission for OMB review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. The purpose of this Notice is to solicit comments about this assessment process, instructions and data collections.

A copy of the proposed information collection request can be obtained by contacting the individual listed below in the ADDRESSES section of this notice.

DATES: Written comments must be submitted to the office listed in the FOR FURTHER INFORMATION CONTACT section below on or before April 3, 2020.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Comments should be sent to Office of Information and Regulatory Affairs, Attn.: OMB Desk Officer for Education, Office of Management and Budget, Room 10235, Washington, DC 20503, (202) 395-7316.

FOR FURTHER INFORMATION CONTACT: Mr. Christopher Reich, Institute of Museum and Library Services, 955 L'Enfant Plaza North SW, Suite 4000, Washington, DC 20024-2135. Mr. Reich can be reached by Telephone: 202-653-4685, Fax: 202-653-4601, or by email at creich@imls.gov, or by teletype (TTY/TDD) for persons with hearing difficulty at 202-653-4614.

SUPPLEMENTARY INFORMATION: The Institute of Museum and Library Services is the primary source of federal support for the nation's libraries and museums. We advance, support, and empower America's museums, libraries, and related organizations through grant making, research, and policy development. Our vision is a nation where museums and libraries work together to work together to transform the lives of individuals and communities. To learn more, visit www.imls.gov.

Current Actions: Over its history, the Institute of Museum and Library Services (IMLS) has invested in a wide range of organizational capacity building and technical assistance for the museum sector through grant making and special initiatives. Through this project, IMLS seeks to strengthen the alignment of its investments, and other offerings in the sector, and understand the full scope of existing museum capacity building opportunities, including but not limited to organizational assessment, coaching, cohort learning, self-driven communities of practice, and self-serve resources. Through this assessment project, IMLS seeks to obtain a holistic view of the museum target audience and needs for capacity building support, identify potential gaps in the suite of current offerings, and define both opportunities and partnerships for new and expanded offerings.

This action is to seek approval for the information collection for the Museum Capacity-Building Assessment Programs for the next three years. Agency: Institute of Museum and Library Services. Title: Museum Capacity-Building Programs Assessment Project.

The 30-day notice for the Museum Capacity-Building Programs Assessment Project, was published in the Federal Register on February 1, 2019 (84 FR 1239). No comments were received.

Agency: Institute of Museum and Library Services.

Title: Museum Capacity-Building Programs Assessment Project.

OMB Number: 3137-TBD.

Agency Number: 3137.

Affected Public: Federal, State and local governments, museums.

Number of Respondents: 1,084.

Frequency: Once.

Burden Hours per Respondent: 0.944.

Total Burden Hours: 391.

Total Annual Costs: $10,897.17.

Dated: February 27, 2020.
Kim Miller,
Senior Grants Management Specialist, Institute of Museum and Library Services.

[FR Doc. 2020-04382 Filed 3-3-20; 8:45 am]

BILLING CODE 7036-01-P